DEPARTMENT OF COMMERCE

Economic Development Administration

Notice of Petitions by Firms for Determination of Eligibility To Apply for Trade Adjustment Assistance

AGENCY: Economic Development Administration, Department of Commerce.

ACTION: Notice and opportunity for public comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat.

List of Petitions Received by EDA For Certification of Eligibility To Apply for Trade Adjustment March 1, 2008 Through March 31, 2008
Firm | Address | Date accepted for filing | Products
Penn Scale Manufacturing Company, Inc | 150 West Berks Street Philadelphia, PA 19122 | 1/31/08 | Manufactures scales and scoops.
Briggs Rainbow Buildings, Inc. | P.O. Box 308, Ft. Gibson, OK 74434 | 3/18/08 | Steel Building and Roofing.
Prairie Authority, LLC dba Yuletideexpressions.com | 111 9th Street, SE, Cooperstown, ND 58425 | 2/20/08 | Light Manufacturing.
Pro-Pak Industries, Inc. | 1125 Ford Street, Maumee, OH 43537 | 2/29/08 | Manufactures rigid boxes and cartons of paper or paperboard.
Graham Stamping Company | 1700 Broadway Company, PO box 578, Wheatland, PA 16161 | 3/18/08 | Manufactures metal stamping products.
Lines Unlimited, Inc. | 715 Park Center Drive, Kernersville, NC 27284 | 3/18/08 | Manufactures material includes wood and metal.
Johnston Textiles, Inc. | 300 Colin Powell Parkway Phenix City, AL 36869 | 3/18/08 | Manufactures diverse line of both decorative and technical textile products.
Jaycat, Inc. dba Carlson Products | 4601 N. Tyler Rd., Maize, KS 67101-8734 | 1/24/08 | Doors and Related Products.
Vinylex Corporation | 2636 Byington-Solway Rd., Knoxville, TN 37931 | 1/31/08 | Manufactures and markets custom thermoplastic profile extrusions.
Hyde Tools, Inc. | 54 Eastford Road, Southbridge, MA 01550 | 2/28/08 | Manufactures household tools and parts for painting, wall covering, flooring drywall, masonry, maintenance and Surface preparation.
Delaware Valley Custom Marble (Glenmar Mfg) | 4 Briar Drive, West Grove, PA 19390 | 2/19/08 | Manufactures cultured marble products primarily for residential bath use.
Kelvin International, Corp. | 12650 McManus Blvd, Newport News, VA 23602 | 2/19/08 | Manufactures cryogenic equipment.
Midbrook, Inc. | 2080 Brooklyn Road, Jackson, MI 49203 | 12/14/08 | Manufactures industrial cleaning for bottles, auto parts and other items.
Cherek Machine & Tool Co., Inc. | 835 Sherman Avenue, Hamden, Connecticut 06514 | 2/8/08 | Produces small machine parts and tooling.
Moon Woodturning, Inc. | 118 W. Watson Street, Pacific, MO 63069 | 1/30/08 | Custom Wood Turning Product.
Maryland Plastics, Inc. | 251 East Central Ave., Federalsburg, MD 21632 | 1/15/08 | Manufactures plastic consumer house wares and cutlery.
Marshall Engineering Product Company, LLC | 3056 Walker Ridge Drive, Suite C, Grand Rapids, MI 49544 | 12/17/08 | Centrifugal and turbine pumps and similar steam and hydronic heating equipment.
Centerline Die & Engineering, LLC | 28661 Van Dyke Ave, Warren, MI 48093 | 2/22/08 | Tools and die.
The Green Company | 15550 W. 109th St., Lenexa, KS 66219 | 1/25/08 | Emblematic jewelry, awards and gifts.
LDC, Inc. | 30R Houghton St, Providence, RI | 2/26/08 | Products form sterling silver, 14KT gold and base metals.
Universal Forest Products | 26200 Nowell Road, Thornton, CA 95686 | 1/31/08 | Lumber remanufacturer and distributor.
H & H Propeller Shop, Inc. | Zero Essex Street, Salem, MA 01970 | 1/30/08 | Wide range of marine propulsion products and services.
Hiawatha Rubber Co. | 1700 67th Avenue N., Minneapolis, MN 55430 | 3/6/08 | Designs and manufactures products such as rubber rollers, roller covers Diaphragms, seals, gaskets and Related molded rubber products.
Fantasy Diamond Corp. | 1550 West Central, Chicago, IL 60607 | 3/3/08 | Manufactures pendants, earings, bracelets and rings out of gold, diamonds and other precious stones.
Flux Studios, Inc. | 4001 Ravenswood Ave, Chicago, IL 60613 | 2/29/08 | Stainless steel and bronze decorative floor and wall tiles.
Simplomatic Manufacturing Company | 816 N. Kostner Avenue, Chicago, IL 60651 | 3/3/08 | Stamped metal and injection molded plastic components of mechanical seals, bearings and turbochargers.
Lynn Halfmann | H.C. 34-Box 187, Midland, TX 79706 | 2/19/08 | Combed and carded cotton for textile manufacturing.
R.L. Stowe Mills, Inc. | 100 N. Main Street, Belmont, NC 28012 | 2/29/08 | Manufactures and markets ring spun combed and open end cotton yarn, twisted yarn, corespun yarns, dyed and mercerized yarns.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in section 315.9 of EDA's final rule (71 FR 56704) for procedures for requesting a public hearing. The Catalog of Federal Domestic Assistance official program number and title of the program under which these petitions are submitted is 11.313, Trade Adjustment Assistance.

Dated: March 19, 2008.
William P. Kittredge,
Program Officer for TAA.

[FR Doc. E8-6036 Filed 3-24-08; 8:45 am]

BILLING CODE 3510-24-P